FEDERAL RESERVE SYSTEM

Change in Bank Control Notices, Acquisition of Shares of Bank or Bank Holding Companies; Correction

This notice corrects a notice (FR Doc. E7-7874) published on pages 20549 and 20550 of the issue for Wedneday, April 25, 2007.

Under the Federal Reserve Bank of San Francisco heading, the entry for Frank W. Yuen, Nassau, Bahamas, is revised to read as follows:

A. Federal Reserve Bank of San Francisco (Tracy Basinger, Director, Regional and Community Bank Group) 101 Market Street, San Francisco, California 94105-1579:

1. Frank W. Yuen, Esq., San Francisco, California; to acquire control of Concord Place, Inc., Nassau, The Bahamas, and thereby indirectly acquire control of Los Angeles National Bank, Buena Park, California.

Comments on this application must be received by May 10, 2007.

Board of Governors of the Federal Reserve System, April 25, 2007.
Margaret McCloskey Shanks,
Associate Secretary of the Board.

[FR Doc. E7-8229 Filed 4-30-07; 8:45 am]

BILLING CODE 6210-01-S